DEPARTMENT OF TRANSPORTATION

Federal Railroad Administration

[Docket No. FRA-2026-0035]

Proposed Agency Information Collection Activities; Comment Request

AGENCY: Federal Railroad Administration (FRA), Department of Transportation (DOT).

ACTION: Notice of information collection; request for comment.

SUMMARY: Under the Paperwork Reduction Act of 1995 (PRA) and its implementing regulations, FRA seeks approval of the Information Collection Request (ICR) summarized below. Before submitting this ICR to the Office of Management and Budget (OMB) for approval, FRA is soliciting public comment on specific aspects of the activities identified in the ICR.

DATES: Interested persons are invited to submit comments on or before March 31, 2026.

ADDRESSES: Written comments and recommendations for the proposed ICR should be submitted on https://www.regulations.gov to Docket No. FRA-2026-0035. All comments received will be posted without change to the docket, including any personal information provided. Please refer to the assigned OMB control number (2130-0519) in any correspondence submitted. FRA will summarize comments received in response to this notice in a subsequent notice, made available to the public, and include them in its information collection submission to OMB for approval.

FOR FURTHER INFORMATION CONTACT: Ms. Joanne Swafford, Information Collection Clearance Officer, at email: joanne.swafford@dot.gov or telephone: (757) 897-9908.

SUPPLEMENTARY INFORMATION: The PRA, 44 U.S.C. 3501-3520, and its implementing regulations, 5 CFR part 1320, require Federal agencies to provide 60 days' notice to the public to allow comment on information collection activities before seeking OMB approval of the activities. See 44 U.S.C. 3506, 3507; 5 CFR 1320.8 through 1320.12. Specifically, FRA invites interested parties to comment on the following ICR regarding: (1) whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. In summary, comments received will advance three objectives: (1) reduce reporting burdens; (2) organize information collection requirements in a “user-friendly” format to improve the use of such information; and (3) accurately assess the resources expended to retrieve and produce information requested. See 44 U.S.C. 3501.

The summary below describes the ICR that FRA will submit for OMB clearance as the PRA requires:

Title: Bad Order and Home Shop Card and Stenciling Mark.

OMB Control Number: 2130-0519.

Abstract: Under 49 CFR part 215, railroads are required to inspect freight cars placed in service and take remedial action when defects are identified. A railroad freight car with a part 215 defect may be moved to another location for repair only after the railroad has complied with the process under 49 CFR 215.9. Section 215.9 requires railroads to affix a “bad order” tag (or card) describing each defect to each side of the freight car. It is imperative that a defective freight car be tagged “bad order” (or “home shop for repairs”) so it can be readily identified and moved to another location for repair purposes only, and so that the maximum speed and other restrictions necessary for safely conducting the movement are known. At the repair location, the “bad order” tag serves as a notification of the defective condition of the freight car. Railroads must retain each tag for 90 days to verify that proper repairs were made at the designated location. When inspecting freight cars, FRA and State inspectors review all pertinent records to determine railroads' compliance with the movement restrictions of § 215.9.

In addition, § 215.301 requires railroads and private car owners to stencil or otherwise display identification marks on freight cars, including a car number and build date. FRA uses the identification marks to help obtain certain information related to a car's compliance with Federal safety requirements. The marks are used consistently across railroad records to identify the car and show: the type of car, what it is carrying, its movement history, and current maintenance schedule. Using the marks to identify the car helps FRA determine the application of Federal safety requirements to that car and who is responsible for compliance. FRA also uses this information to determine if the freight car qualifies for dedicated service and is excluded from the requirements of part 215. Railroads use the required information to provide identification and control so that dedicated cars remain in the prescribed service.

In this 60-day notice, FRA made no changes to the previously approved burden or responses.

Type of Request: Extension without change of a currently approved collection.

Affected Public: Businesses.

Form(s): N/A.

Respondent Universe: 754 railroads.

Frequency of Submission: On occasion.

Reporting Burden
CFR section | Respondent universe (railroads) | Total annual responses | Average time per response (minutes) | Total annual burden hours | Wage rates ¹ | Total cost equivalent U.S.D.
|  | (A) | (B) | (C = A * B) |  | (D = C * wage rates ²)
215.9 Movement of Defective Cars for Repair
—(a)(2) Tagging of defective cars | 754 | 150,000 Tags | 5 | 12,500 | $73.41 | $917,625
—(b)(3) Notifications of removal of defective car tags | 754 | 75,000 notifications | 2 | 2,500 | 73.41 | 183,525
215.11 Designated Inspectors
—(c) Records of designated inspectors | 754 | 30,000 records | 1 | 500 | 73.41 | 36,705
215.301 General (Subpart D, Stenciling)
—Stenciling | 754 | 30,000 stencils | 45 | 22,500 | 73.41 | 1,651,725
Total | 754 | 285,000 responses |  | 38,000 |  | 2,789,580
¹ Surface Transportation Board (STB), Quarterly Wage Form A&B Data (2024). Compiled from Class I railroad data reported on Wage Form A&B for year 2024. Calculated as: Wage ($/hour) = sum of compensation for time worked and paid for straight time rates ($) for Class I railroads ÷ sum of service hours for time worked and paid for straight time rates (hours) for Class I railroads. Available: https://www.stb.gov/reports-data/economic-data/quarterly-wage-ab-data/.
² The employee groups used to calculate hourly wage rates are Group 400 (Maintenance of Equipment & Stores): $72.01 (41.15 × overhead of 1.75), and Group 600 (Transportation, Train, and Engine): $79.02 ($45.16 × overhead of 1.75). Time spent by these groups on the respective paperwork requirements are Group 400: 80%, and Group 600: 20%. This results in a combined wage rate of $73.41 ($72.01 × 0.8 + $79.02 × 0.2 = $57.61 + $15.80 = $73.41).

Total Estimated Annual Responses: 285,000.

Total Estimated Annual Burden: 38,000 hours.

Total Estimated Annual Burden Hour Dollar Cost Equivalent: $2,789,580.

FRA informs all interested parties that it may not conduct or sponsor, and a respondent is not required to respond to, a collection of information that does not display a currently valid OMB control number.

Authority: 44 U.S.C. 3501-3520.

Christopher S. Van Nostrand,
Deputy Chief Counsel.

[FR Doc. 2026-01853 Filed 1-29-26; 8:45 am]

BILLING CODE 4910-06-P